DEPARTMENT OF ENERGY

Federal Energy Regulatory Commission

[Docket No. EL02-59-000]

KeySpan-Ravenswood, Inc., Complainant, v. New York Independent System Operator, Inc., Respondent; Notice of Complaint

February 20, 2002.

Take notice that on February 15, 2002, KeySpan-Ravenswood, Inc. (Ravenswood) filed a Complaint Requesting Fast Track Processing against the New York Independent System Operator, Inc. (NYISO) requesting that the Federal Energy Regulatory Commission direct the NYISO to make two limited modifications to the current localized in-City mitigation measures applicable to the installed capacity (ICAP) market. Specifically, Ravenswood requested (1) to convert the current in-City ICAP price cap applicable to owners of divested in-City generation into a bid cap of equal value, and (2) to eliminate the existing ban on bilateral sales of in-City ICAP.

Copies of the complaint were served via facsimile and courier to representatives of the NYISO, Consolidated Edison Company of New York, Inc. and the New York Public Service Commission.

Any person desiring to be heard or to protest this filing should file a motion to intervene or protest with the Federal Energy Regulatory Commission, 888 First Street, NE., Washington, DC 20426, in accordance with rules 211 and 214 of the Commission's rules of practice and procedure (18 CFR 385.211 and 385.214). All such motions or protests must be filed on or before March 7, 2002. Protests will be considered by the Commission in determining the appropriate action to be taken, but will not serve to make protestants parties to the proceeding. Any person wishing to become a party must file a motion to intervene. Answers to the complaint shall also be due on or before March 7, 2002. Copies of this filing are on file with the Commission and are available for public inspection. This filing may also be viewed on the web at http://www.ferc.gov using the “RIMS” link, select “Docket#” and follow the instructions (call 202-208-2222 for assistance). Comments, protests, interventions and answers may be filed electronically via the Internet in lieu of paper. See, 18 CFR 385.2001(a)(1)(iii) and the instructions on the Commission's web site under the “e-Filing” link.

Magalie R. Salas,
Secretary.

[FR Doc. 02-4568 Filed 2-26-02; 8:45 am]

BILLING CODE 6717-01-P